DEPARTMENT OF AGRICULTURE

Forest Service

Forest Counties Payments Committee

AGENCY: Forest Service, USDA.

ACTION: Notice of meeting.

SUMMARY: The Forest Counties Payments Committee has scheduled a business meeting on January 19-20, 2002, to discuss how it will provide Congress with the information specified in Section 320 of the Fiscal Year 2001 Interior and Related Agencies Appropriations Act. The meeting will be held from 8:30 a.m. until 5:00 p.m., and is open to the public.

DATES: The meeting will be held on January 19-20, 2002.

ADDRESSES: The meeting will be held at the Pontchartrain Hotel, 2031 Saint Charles Avenue, New Orleans, Louisiana 70140.

FOR FURTHER INFORMATION CONTACT: Randle G. Phillips, Executive Director, Forest Counties Payments Committee, (202) 208-6574; or via e-mail at rphillips01@fs.fed.us.

SUPPLEMENTARY INFORMATION: Section 320 of the 2001 Interior and Related Agencies Appropriations Act (Pub L. 106-291) created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occurring on Federal lands which are Federal responsibilities; and monitor payments and implementation of Pub. L. 106-393, The Secure Rural Schools and Community Self-Determination Act of 2000.

Dated: December 19, 2001.
Elizabeth Estill,
Deputy Chief, Programs and Legislation.

[FR Doc. 01-31873 Filed 12-27-01; 8:45 am]

BILLING CODE 3410-11-P